NUCLEAR REGULATORY COMMISSION

[Docket No. 40-8907; NRC-2019-0026]

United Nuclear Corporation (UNC) Church Rock Project; Correction

AGENCY: Nuclear Regulatory Commission.

ACTION: Intent to prepare an environmental impact statement (EIS) and conduct a scoping process; request for comment; correction.

SUMMARY: The U.S. Nuclear Regulatory Commission (NRC) is correcting a notice that was published in the Federal Register (FR) on February 8, 2019, regarding UNC's request to amend its license (SUA-1475) to excavate approximately 1 million cubic yards of mine spoil from the Northeast Church Rock Mine Site and dispose of it at the existing mill site in Church Rock, New Mexico. This action is necessary to correct a document that was referenced in the Background and Availability of Documents section as “ADAMS Package Accession No. ML18360A424 (Package)” to read “ADAMS Accession No. ML19007A126.”

DATES: February 26, 2019.

ADDRESSES: You may submit comments by any of the following methods:

• Federal Rulemaking website: Go to http://www.regulations.gov and search for Docket ID NRC-2019-0026. Address questions about Docket IDs in Regulations.gov to Krupskaya Castellon; telephone: 301-287-9221; email: Krupskaya.Castellon@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

• Email comments to: UNC-ChurchRockEIS.resource@nrc.gov

For additional direction on obtaining information and submitting comments, see “Obtaining Information and Submitting Comments” in the SUPPLEMENTARY INFORMATION section of this document.

FOR FURTHER INFORMATION CONTACT: Ashley Waldron, Office of Nuclear Material Safety and Safeguards, U.S. Nuclear Regulatory Commission, Washington, DC 20555-0001; telephone: 301-415-7317; email: Ashley.Waldron@nrc.gov.

SUPPLEMENTARY INFORMATION: In the FR on February 8, 2019, in FR Doc. 2019-01642, on page 2935, in the third column, under the last paragraph, last line in Section II, “Background,” correct “ADAMS Package Accession No. ML18360A424” to read “ADAMS Accession No. ML19007A126.” The document is also referenced in the last line of the Document table in Section VII, Availability of Documents, correct “ML18360A424 (Package)” to read “ML19007A126.”

Dated at Rockville, Maryland, on February 21, 2019.
For the U.S. Nuclear Regulatory Commission.
Michael F. King,
Director, Division of Fuel Cycle Safety, Safeguards, and Environmental Review, Office of Nuclear Material Safety, and Safeguards.

[FR Doc. 2019-03300 Filed 2-25-19; 8:45 am]

BILLING CODE 7590-01-P